DEPARTMENT OF HOMELAND SECURITY

Coast Guard

33 CFR Part 165

[Docket Number USCG-2024-0500]

RIN 1625-AA00

Safety and Security Zones: Pilgrim Nuclear Power Plant, Plymouth Massachusetts

AGENCY: Coast Guard, Department of Homeland Security (DHS).

ACTION: Final rule.

SUMMARY: The Coast Guard is disestablishing the existing safety and security zone for Pilgrim Nuclear Power Plant, Plymouth, Massachusetts. Since the implementation of the regulation, the facility has permanently ceased power operations making the provisions of the security zone no longer applicable. The waterfront facility's safety and security zone will be removed from all charts, publications, and other navigational references. All related private aids to navigational marking the boundaries of the security zone will also be removed.

DATES: This rule is effective January 16, 2025.

ADDRESSES: To view the documents mentioned in the preamble as being available in the docket, go to https://www.regulations.gov, type USCG-2024-0500 in the search box and click “Search” in the Document Type column, select “Supporting & Related Material.”

FOR FURTHER INFORMATION CONTACT: If you have questions about this rule, call, or email Mr. Timothy Chase. Sector Boston, Waterways Management Division, U.S. Coast Guard; telephone 617-447-1620, email: Timothy.w.chase@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

On January 9, 2024, Entergy Nuclear Operation, Inc, notified the Coast Guard that they had provided all the required documentation for disestablishment to the U.S. Nuclear Regulatory Commission as per 10 CFR 50.82(a)(1)(i). Power operations have ceased at the Pilgrim Nuclear Power Station.

In response, on August 30, 2024, the Coast Guard published a NPRM titled “Safety and Security Zones; Pilgrim Nuclear Power Plant, Plymouth Massachusetts” in the Federal Register (89 FR 70587). There we stated why we issued the NPRM and invited comments on our proposed regulatory action related to Safety and Security Zones: Pilgrim Nuclear Power Plant, Plymouth, Massachusetts. During the comment period that ended September 30, 2024, we received three written submissions.

III. Legal Authority and Need for Rule

The Coast Guard is issuing this rule under the authority in 46 U.S.C. 70034, 70051, and 70124. The Captain of the Port Sector Boston Massachusetts (COTP) has determined that disestablishing the safety and security zone cited in 33 CFR 165.115, Safety and Security Zones: Pilgrim Nuclear Power Plant, Plymouth Massachusetts, by removing that section.

IV. Discussion of Comments, Changes, and the Rule

As noted above the Coast Guard received three written submissions on our NPRM published on August 30, 2024. All three commenters were in favor of our proposal, no Public Meetings were requested or held. There are no changes in the regulatory text of this rule from the proposed rule in the NPRM. The Coast Guard is disestablishing the safety and security zone cited in 33 CFR 165.115, Safety and Security Zones: Pilgrim Nuclear Power Plant, Plymouth, Massachusetts, by removing that section.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action” under section 3(f) of Executive Order 12866, as amended by Executive Order 12866 as amended by Executive Order 14094 (Modernizing Regulatory review). Accordingly, this rule has not been reviewed by the Office of Management and Budget (OMB).

This regulatory action determination is based on the need to align the regulations with the current arrangements of the port as the waterfront facility safety and security zone is no longer required. The Captain of the Port of Boston Massachusetts is removing 33 CFR 165.115.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule would not have a significant economic impact on a substantial number of small entities.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this rule under that order and have determined that it is consistent with the fundamental federalism principles and preemption requirements described in Executive Order 13132.

Also, this rule does not have tribal implications under Executive Order 13175 (Consultation and Coordination with Indian Tribal Governments) because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the potential effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This rule involves the disestablishment of a security zone. Normally such actions are categorically excluded from further review under paragraph L60(b) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

§ 165.115 [Removed]

2. Remove § 165.115.

J.C. Frederick,
Captain, U.S. Coast Guard, Captain of the Port Sector Boston.

[FR Doc. 2024-29803 Filed 12-16-24; 8:45 am]

BILLING CODE 9110-04-P